DEPARTMENT OF DEFENSE

Office of the Secretary

[Docket ID: DOD-2012-OS-0005]

Proposed Collection; Comment Request

AGENCY: Office of the Under Secretary of Defense (Personnel and Readiness), DoD.

ACTION: Notice.

SUMMARY: In compliance with Section 3506(c)(2)(A) of the Paperwork Reduction Act of 1995, the Office of the Under Secretary of Defense (Personnel and Readiness) announces the following proposed reinstatement of public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by March 23, 2012.

ADDRESSES: You may submit comments, identified by docket number and title, by any of the following methods:

Federal eRulemaking portal: http://www.regulations.gov. Follow the instructions for submitting comments.

Mail: Federal Docket Management Systems Office, 4800 Mark Center Drive, Suite 02G09, East Tower, 2nd floor, Alexandria, VA 22350-3100.

Instructions: All submissions received must include the agency name, docket number, and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of the Under Secretary of Defense (Personnel and Readiness), Department of Defense Education Activity (DoDEA), 4040 N. Fairfax Drive, 9th Floor, Arlington, VA 22203, ATTN: Dr. Sandra D. Embler or call (703) 588-3143.

Title and OMB Control Number: “Department of Defense Education Activity (DoDEA) Sure Start Parent Questionnaire,” OMB CONTROL NUMBER 0704-0456.

Needs and Uses: The Sure Start Parent Questionnaire is an instrument to measure the overall satisfaction level of parents of students enrolled in DoDEA Sure Start programs. This collection is necessary to meet the Government Performance and Results Act of 1993, Public Law 103-62; 107 Stat. 285, that requires agencies to have strategic plans and to consult with affected persons. A major purpose of the regulation is to improve Federal program effectiveness and public accountability by promoting a new focus on results, service quality, and customer satisfaction. The parent survey is also a required component of the annual evaluation of the Sure Start program as required by DoDEA.

Affected Public: Individuals or households.

Annual Burden Hours: 366.

Number of Respondents: 1100.

Responses per Respondent: 2.

Average Burden per Response: 10 minutes.

Frequency: Biannually.

SUPPLEMENTARY INFORMATION:

Summary of Information Collection

The Department of Defense Education Activity (DoDEA) Sure Start Parent Questionnaire will be administered to all parents/sponsors of students enrolled in DoDEA Sure Start programs. Sure Start is the equivalent of pre-kindergarten but targets preschoolers who are “at risk” for later school failure because of economic circumstance or other health and/or family factors. In addition to offering a high-quality educational program that reflects best practices in the field, Sure Start also provides health and nutrition, social, and parent involvement services. Close collaboration between families, schools, and the installation community is viewed as essential and a required part of the program, to include parental feedback on the program. Participation in the survey is completely voluntary and will be administered via paper/hard copy format. All data are collected and analyzed at the school level only. The questionnaire will give parents/sponsors an opportunity to indicate their overall level of satisfaction with DoDEA Sure Start programs. The questionnaire will be administered biannually; typically in the middle of the school year and at the school year's end.

The information derived from these surveys will be used to improve service and planning efforts at school level. This information is one of many measures used for future planning of programs and services offered to DoDEA's students.

Dated: January 17, 2012.
Aaron Siegel,
Alternate OSD Federal Register Liaison Officer, Department of Defense.

[FR Doc. 2012-1143 Filed 1-20-12; 8:45 am]

BILLING CODE 5001-06-P